DEPARTMENT OF THE INTERIOR

National Park Service

[NPS-WASO-NAGPRA-NPS0025283; PPWOCRADN0-PCU00RP14.R50000]

Notice of Inventory Completion: New York State Museum, Albany, NY

AGENCY: National Park Service, Interior.

ACTION: Notice.

SUMMARY: The New York State Museum has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the New York State Museum. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the New York State Museum at the address in this notice by May 14, 2018.

ADDRESSES: Lisa Anderson, New York State Museum, 3049 Cultural Education Center, Albany, NY 12230, telephone (518) 486-2020, email lisa.anderson@nysed.gov.

SUPPLEMENTARY INFORMATION: Notice is here given in accordance with the Native American Graves Protection and Repatriation Act (NAGPRA), 25 U.S.C. 3003, of the completion of an inventory of human remains under the control of the New York State Museum, Albany, NY. The human remains were removed from sites in Onondaga and Tioga Counties, NY.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the New York State Museum professional staff in consultation with representatives of the Onondaga Nation.

History and Description of the Remains

At some time prior to 1914, human remains representing, at minimum, one individual were removed from a site in the town of Pompey in Onondaga County, NY. The human remains were acquired in 1914 as part of a larger collection purchased from Otis M. Bigelow. The human remains consist of a small cranial fragment from an adult individual of unknown age and sex. No known individual was identified. No associated funerary objects are present.

Beauchamp described the Pompey area as the early home of the Onondaga, where numerous village sites date from the late pre-contact period through the seventeenth century.

In the 1960s, human remains representing, at minimum, two individuals were removed from the vicinity of Endicott, possibly the Engelbert site, in Tioga County, NY. The human remains were found among archeological collections belonging to the New York State Archaeological Association Louis A. Brennan/Lower Hudson Chapter, and were transferred to the museum in 2011. Information with the human remains suggests they may have been excavated by Brennan and studied by Dr. Audrey Sublett at Florida Atlantic University in 1967. Sublett analyzed human remains from the Engelbert site in 1967 and 1968. The human remains represent an adult male, 35-45 years of age, and a single ulna of an adult individual of unknown age and sex. No known individuals were identified. No associated funerary objects are present.

The Engelbert site is a large, multicomponent habitation site that was used intermittently over a period of about 5,000 years. The site was also used as a burial site during at least two different periods, from about A.D. 1000 to the 1400s, and from the late 1500s to possibly the early 1600s. Based on the findings of the NAGPRA Review Committee in 2008, the Engelbert site was determined to be culturally affiliated with Onondaga Nation and the Haudenosaunee Confederacy.

In the 1960s, human remains representing, at minimum, one individual were removed from the Oran-Barnes site in Onondaga County, NY. The human remains were collected from the surface of the site by Stanley Gibson, whose family donated the remains to the museum as part of a larger collection in 2009. The human remains consist of a femur fragment from an adult individual of unknown age and sex (#A2009.35K). No known individual was identified. No associated funerary objects are present.

In 1976, human remains representing, at minimum, one individual were removed from the Oran-Barnes site in Onondaga County, NY. The human remains were collected from the surface of a hillside midden by James Bradley, who donated them to the museum in 2009. The human remains include one small cranial fragment and a tooth representing at least one adult individual of unknown age and sex (#A2009.13B.99.16-17). No known individual was identified. No associated funerary objects are present.

The Oran-Barnes site is a large village site that has been dated to the late pre-contact period, circa A.D. 1500, based on the type of settlement and the artifacts present, including pottery.

In 1977, human remains representing, at minimum, one individual were removed from the Shurtleff site in Onondaga County, NY. The human remains were collected from the surface of a hillside midden by James Bradley, who donated them to the museum as part of a larger collection in 2012. The human remains consist of three small cranial fragments and a foot phalange from at least one adult individual of unknown age and sex (#A2012.05B.61-62). No known individual was identified. No associated funerary objects are present.

The Shurtleff site is considered an early historic Onondaga village site that has been dated to approximately A.D. 1635-1645 (or 1630-1640) based on the types of glass beads found at the site.

Determinations Made by the {Museum or Federal Agency}

Officials of the New York State Museum have determined that:

• Pursuant to 25 U.S.C. 3001(9), the human remains described in this notice represent the physical remains of 6 individuals of Native American ancestry.

• Pursuant to 25 U.S.C. 3001(2), there is a relationship of shared group identity that can be reasonably traced between the Native American human remains and the Onondaga Nation.

Additional Requestors and Disposition

Lineal descendants or representatives of any Indian Tribe or Native Hawaiian organization not identified in this notice that wish to request transfer of control of these human remains should submit a written request with information in support of the request to Lisa Anderson, New York State Museum, 3049 Cultural Education Center, Albany, NY 12230, telephone (518) 486-2020, email lisa.anderson@nysed.gov, by May 14, 2018. After that date, if no additional requestors have come forward, transfer of control of the human remains to the Onondaga Nation may proceed.

The New York State Museum is responsible for notifying the Onondaga Nation that this notice has been published.

Dated: March 22, 2018.
Melanie O'Brien,
Manager, National NAGPRA Program.

[FR Doc. 2018-07700 Filed 4-12-18; 8:45 am]

BILLING CODE 4312-52-P